DEPARTMENT OF COMMERCE

Patent and Trademark Office

Submission for OMB Review; Comment Request; “Patents for Humanity Program”

The Department of Commerce will submit to the Office of Management and Budget (OMB) for clearance the following proposal for collection of information under the provisions of the Paperwork Reduction Act (44 U.S.C. Chapter 35).

Agency: United States Patent and Trademark Office, Commerce.

Title: Patents for Humanity Program.

OMB Control Number: 0651-0066.

Form Number(s):

• PTO/PFH/001

• PTO/PFH/002

• PTO/SB/431

Type of Request: Regular.

Number of Respondents: 110 responses per year.

Average Minutes per Response: 60 minutes (attorney) or 180 minutes (paralegal) for the Humanitarian Program Application, and 60 minutes for the Petition to Extend the Redemption Period of the Humanitarian Awards Certificate.

Burden Hours: 410.

Cost Burden: $0.

Needs and Uses

The Patents for Humanity Program is designed to incentivize the distribution of patented technologies or products to address humanitarian needs, and is open to any patent owners or patent licensees, including inventors who have not assigned their ownership rights to others, assignees, and exclusive or non-exclusive licensees. Applications are considered in five categories: Medicine, Nutrition, Sanitation, Household Energy, and Living Standards.

The USPTO has developed two application forms that applicants can use to apply for participation in the Patents for Humanity Program—one application covers the humanitarian uses of technologies or products and the other application covers humanitarian research. Applicants may optionally provide contact information for the public to reach them with any inquiries. Additionally, applicants may provide non-public contact information by email to the USPTO in order to be notified about their award status. Applications must be submitted electronically as described at http://www.uspto.gov/patentsforhumanity. Complete submitted applications will be available on the public Web site after being screened for inappropriate material.

The applications are reviewed by external judges working independently. A selection committee composed of representatives from other federal agencies and laboratories will make recommendations for the awards based on the judges' reviews. Those applicants who are selected for an award will receive a certificate redeemable to accelerate select matters before the USPTO and public recognition of their efforts, including an awards ceremony at the USPTO. The certificates can be redeemed to accelerate one of the following matters: an ex parte reexamination proceeding, including one appeal to the Patent Trial and Appeal Board (PTAB) from that proceeding; a patent application, including one appeal to the PTAB from that application; or an appeal to the PTAB of a claim twice rejected in a patent application or reissue application or finally rejected in an ex parte reexamination, without accelerating the underlying matter which generated the appeal. The certificates cannot be transferred to other parties.

Affected Public: Individuals or households, businesses or other for-profits; not-for-profit institutions.

Frequency: Annually.

Respondent's Obligation: Required to obtain or retain benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0066 copy request” in the subject line of the message.

• Mail: Marcie Lovett, Records Management Division Director, Office of the Chief Information Officer, United States Patent and Trademark Office, P.O. Box 1450, Alexandria, VA 22313-1450.

Written comments and recommendations for the proposed information collection should be sent on or before September 16, 2015 to Nicholas A. Fraser, OMB Desk Officer, via email to Nicholas_A._Fraser@omb.eop.gov, or by fax to 202-395-5167, marked to the attention of Nicholas A. Fraser.

Dated: August 6, 2015.
Marcie Lovett,
Records Management Division Director, USPTO, Office of the Chief Information Officer.

[FR Doc. 2015-20193 Filed 8-14-15; 8:45 am]

BILLING CODE 3510-16-P